POSTAL REGULATORY COMMISSION

39 CFR Part 3020

[Docket Nos. MC2010-21 and CP2010-36]

Update to Product Lists

AGENCY: Postal Regulatory Commission.

ACTION: Final rule.

SUMMARY: The Commission is updating the product lists. This action reflects a publication policy adopted in a recent Commission order. The referenced policy assumes periodic updates. The updates are identified in the body of this document. The product lists, which are republished in their entirety, include these updates.

DATES: Effective Date: September 8, 2014.

Applicability Dates: See the SUPPLEMENTARY INFORMATION.

FOR FURTHER INFORMATION CONTACT: David A. Trissell, General Counsel, at 202-789-6800.

SUPPLEMENTARY INFORMATION: This document identifies updates to the product lists, which appear as Appendix A to Subpart A of 39 CFR Part 3020—Mail Classification Schedule. Publication of updated product lists in the Federal Register is addressed in the Postal Accountability and Enhancement Act (PAEA) of 2006.

Applicability Dates: July 6, 2012, First-Class Package Service Contract 8 (MC2012-27 and CP2012-36); July 20, 2012, Transfer of Parcel Post to the Competitive Product List (MC2012-13); July 25, 2012, Parcel Select Contract 3 (MC2012-32 and CP2012-40); July 25, 2012, Parcel Select Contract 4 (MC2012-33 and CP2012-41); July 25, 2012, Parcel Select Contract 5 (MC2012-34 and CP2012-42); July 31, 2012, First-Class Package Service Contract 10 (MC2012-35 and CP2012-43); August 16, 2012, Priority Mail Contract 39 (MC2012-37 and CP2012-45); August 20, 2012, Priority Mail Contract 40 (MC2012-38 and CP2012-46); August 20, 2012, Priority Mail Contract 41 (MC2012-39 and CP2012-47); August 23, 2012, First-Class Package Service Contract 11 (MC2012-40 and CP2012-48); August 23, 2012, First-Class Package Service Contract 12 (MC2012-41 and CP2012-49); August 23, 2012, Valassis NSA (MC2012-14 and R2012-8); August 29, 2012, First-Class Package Service Contract 13 (MC2012-42 and CP2012-50); August 29, 2012, First-Class Package Service Contract 14 (MC2012-43 and CP2012-51); August 31, 2012, First-Class Package Service Contract 15 (MC2012-45 and CP2012-53); September 7, 2012, Every Door Direct Mail-Retail to the Product List (MC2012-31); September 10, 2012, Transfer of Outbound Single-Piece First-Class Mail International Packages and Rolls (MC2012-44); September 21, 2012, Express Mail, Priority Mail & First-Class Package Service Contract 1 (MC2012-46 and CP2012-55); September 24, 2012, Priority Mail Contract 42 (MC2012-47 and CP2012-57); September 24, 2012, Priority Mail Contract 43 (MC2012-48 and CP2012-58); October 19, 2012, Priority Mail Contract 44 (MC2013-2 and CP2013-2); October 26, 2012, Priority Mail Contract 45 (MC2013-4 and CP2013-4); October 26, 2012, Priority Mail & First-Class Package Service Contract 1 (MC2013-5 and CP2013-5); November 2, 2012, Priority Mail Contract 46 (MC2013-6 and CP2013-6); November 2, 2012, Priority Mail Contract 47 (MC2013-7 and CP2013-7); November 2, 2012, First-Class Package Service Contract 21 (MC2013-8 and CP2013-8); November 2, 2012, First-Class Package Service Contract 22 (MC2013-9 and CP2013-9); November 2, 2012, First-Class Package Service Contract 23 (MC2013-10 and CP2013-10); November 2, 2012, First-Class Package Service Contract 24 (MC2013-11 and CP2013-11); November 8, 2012, First-Class Package Service Contract 25 (MC2013-12 and CP2013-12); November 8, 2012, Parcel Select Contract 6 (MC2013-13 and CP2013-13); November 19, 2012, First-Class Package Service Contract 26 (MC2013-15 and CP2013-14); November 19, 2012, Priority Mail Contract 48 (MC2013-16 and CP2013-15); November 30, 2012, First-Class Package Service Contract 27 (MC2013-17 and CP2013-16); November 30, 2012, First-Class Package Service Contract 28 (MC2013-18 and CP2013-17); November 30, 2012, First-Class Package Service Contract 29 (MC2013-19 and CP2013-18); November 30, 2012, First-Class Package Service Contract 30 (MC2013-20 and CP2013-19); December 28, 2012, First-Class Package Service Contract 31 (MC2013-21 and CP2013-29); December 28, 2012, First-Class Package Service Contract 32 (MC2013-22 and CP2013-30); December 28, 2012, First-Class Package Service Contract 34 (MC2013-24 and CP2013-32); December 28, 2012, First-Class Package Service Contract 33 (MC2013-23 and CP2013-31); January 2, 2013, Priority Mail Contract 49 (MC2013-25 and CP2013-33); January 2, 2013, Priority Mail Contract 50, (MC2013-26 and CP2013-34); January 16, 2013, Global Expedited Package Services Contracts Non-Published Rates 4 (MC2013-27 and CP2013-35); January 24, 2013, Priority Mail Contract 51 (MC2013-31 and CP2013-40); January 25, 2013, Express Mail Contract 13 (MC2013-32 and CP2013-41); February 4, 2013, Priority Mail Contract 52 (MC2013-35 and CP2013-46); February 4, 2013, Express Mail & Priority Mail Contract 13 (MC2013-34 and CP2013-45); February 8, 2013, Priority Mail Contract 53 (MC2013-36 and CP2013-47); February 11, 2013, Express Mail & Priority Mail Contract 12 (MC2013-33 and CP2013-44); February 11, 2013, Priority Mail Contract 54 (MC2013-37 and CP2013-48); February 19, 2013, Removal of Confirm Service from the Market-Dominant Product List (MC2013-38); March 1, 2013, Parcel Return Service Contract 3 (MC2013-39 and CP2013-51); March 7, 2013, Express Mail Contract 14 (MC2013-41 and CP2013-53); March 11, 2013, Priority Mail Contract 55 (MC2013-40 and CP2013-52); April 9, 2013, Priority Mail Contract 56 (MC2013-42 and CP2013-55); April 9, 2013, Priority Mail Contract 57 (MC2013-43 and CP2013-56); May 8, 2013, Parcel Return Service Contract 4 (MC2013-46 and CP2013-60); May 9, 2013, Priority Mail Contract 58 (MC2013-47 and CP2013-61); May 23, 2013, Express Mail Contract 15 (MC2013-50 and CP2013-63); June 13, 2013, Global Reseller Expedited Package Contracts 2 (MC2013-51 and CP2013-64); June 24, 2013, Priority Mail Contract 59 (MC2013-52 and CP2013-66); July 8, 2013, Priority Mail Contract 60 (MC2013-54 and CP2013-70); July 19, 2013, Priority Mail International Regional Rate Boxes Non-Published Rates Contracts (MC2013-53 and CP2013-69); July 23, 2013, Priority Mail Contract 62 (MC2013-56 and CP2013-74); July 24, 2013, Priority Mail Contract 61 (MC2013-55 and CP2013-73); August 12, 2013, Market Test of Experimental Product-International Merchandise Return Service Non-Published Rates (MT2013-2); August 30, 2013, Inbound International Expedited Services 2 (CP2013-77), September 11, 2013, Priority Mail Express & Priority Mail Contract 14 (MC2013-58 and CP2013-79); September 11, 2013, Parcel Select Contract 7 (MC2013-59 and CP2013-80). September 30, 2013, Priority Mail Contract 63 (MC2013-61 and CP2013-81); October 17, 2013, Priority Mail Contract 64 (MC2013-62 and CP2013-82); October 23, 2013, Priority Mail Contract 65 (MC2013-63 and CP2013-83); October 29, 2013, Parcel Select & Parcel Return Service Contract 5 (MC2014-1 and CP2014-1); November 1, 2013, Parcel Return Service Contract 5 (MC2014-4 and CP2014-4); November 5, 2013, Priority Mail Contract 66 (MC2014-2 and CP2014-2); November 7, 2013, Global Reseller Expedited Package Contracts 3 (MC2013-64 and CP2013-84); November 7, 2013, Priority Mail Express & Priority Mail Contract 15 (MC2014-3 and CP2014-3); December 2, 2013, Priority Mail Contract 68 (MC2014-6 and CP2014-7); December 2, 2013, Priority Mail Contract 69 (MC2014-7 and CP2014-8); December 3, 2013, Priority Mail Contract 67 (MC2014-5 and CP2014-6); December 3, 2013, Priority Mail Contract 70 (MC2014-8 and CP2014-9); December 19, 2013, Priority Mail Contract 71 (MC2014-9 and CP2014-10); December 19, 2013, Priority Mail Contract 72 (MC2014-10 and CP2014-11); December 20, 2013, Notice of Market Dominant Price Adjustment for Alternate Postage Payment Method (R2014-1); January 2, 2014, Priority Mail Express Contract 16 (MC2014-12 and CP2014-16); January 6, 2014, Priority Mail Express Contract 17 (MC2014-13 and CP2014-17); January 9, 2014, Priority Mail Contract 73 (MC2014-11 and CP2014-15); January 13, 2014, Priority Mail Contract 74 (MC2014-15 and CP2014-24); January 24, 2014, First-Class Package Service Contract 35 (MC2014-14 and CP2014-23); January 27, 2014, Priority Mail Contract 76 (MC2014-17 and CP2014-26); January 28, 2014, Priority Mail Contract 75 (MC2014-16 and CP2014-25); March 7, 2014, Priority Mail Contract 77 (MC2014-18 and CP2014-31); March 11, 2014, Priority Mail Contract 78 (MC2014-19 and CP2014-32); March 11, 2014, Priority Mail Contract 79 (MC2014-20 and CP2014-33); March 27, 2014, Priority Mail Express, Priority Mail & First-Class Package Service Contract 2 (MC2014-22 and CP2014-37); April 16, 2014, Priority Mail Contract 80 (MC2014-23 and CP2014-38); April 30, 2014, Priority Mail Contract 81 (MC2014-24 and CP2014-47); May 1, 2014, Priority Mail Express Contract 18 (MC2014-25 and CP2014-48); June 19, 2014 (Market Dominant Product Prices PHI Acquisitions, Inc. (MC2014-21 and R2014-6); June 27, 2014, Priority Mail Express, Priority Mail & First-Class Package Service Contract 3 (MC2014-27 and CP2014-53); July 11, 2014, Priority Mail Contract 82 (MC2014-29 and CP2014-54); July 16, 2014, Priority Mail Contract 83 (MC2014-31 and CP2014-56); July 21, 2014, First-Class Package Service Contract 36 (MC2014-32 and CP2014-57); August 1, 2014, Priority Mail Contract 86 (MC2014-35 and CP2014-61); August 1, 2014, Priority Mail Contract 88 (MC2014-37 and CP2014-63); August 4, 2014, Priority Mail Contract 85 (MC2014-34 and CP2014-60); August 4, 2014, Priority Mail Contract 87 (MC2014-36 and CP2014-62); August 4, 2014, Priority Mail Contract 84 (MC2014-33 and CP2014-59); August 8, 2014, Addition of Gift Cards Price Category to Greeting Cards and Stationery Product (MC2014-26); August 19, 2014, Transferring Inbound Surface Parcel Post (At UPU) Rates) (MC2014-28); August 25, 2014, Global Reseller Expedited Package Contracts 4 (MC2014-38 and CP2014-67); August 27, 2014, Priority Mail Contact 90 (MC2014-40 and CP2014-73) . Additionally, Negotiated Service Agreements that have expired prior to December 31, 2013 have been removed from the product lists.

Authorization. The Commission process for periodic publication of updates was established in Docket Nos. MC2010-21 and CP2010-36, Order No. 445, April 22, 2010, at 8.

Changes. The product lists are being updated by publishing a replacement in its entirety of Appendix A to Subpart A of 39 CFR Part 3020—Mail Classification Schedule. This update includes changes to the product lists specified in Notice of Update to Product Lists filed on September 20, 2013 and Notice of Update to Product Lists filed on September 2, 2014. Additionally, Negotiated Service Agreements that expired prior to December 31, 2013 have been removed from the product lists.

1. First-Class Package Service Contract 8 (MC2012-27 and CP2012-36) (Order No. 1394), added July 6, 2012.

2. Transfer of Parcel Post to the Competitive Product List (MC2012-13) (Order No. 1411), added July 20, 2012.

3. Parcel Select Contract 3 (MC2012-32 and CP2012-40) (Order No. 1414), added July 25, 2012.

4. Parcel Select Contract 4 (MC2012-33 and CP2012-41) (Order No. 1415), added July 25, 2012.

5. Parcel Select Contract 5 (MC2012-34 and CP2012-42) (Order No. 1416), added July 25, 2012.

6. First-Class Package Service Contract 10 (MC2012-35 and CP2012-43) (Order No. 1419), added July 31, 2012.

7. Priority Mail Contract 39 (MC2012-37 and CP2012-45) (Order No. 1434) added August 16, 2012.

8. Priority Mail Contract 40 (MC2012-38 and CP2012-46) (Order No. 1444), added August 20, 2012.

9. Priority Mail Contract 41 (MC2012-39 and CP2012-47) (Order No. 1445), added August 20, 2012.

10. First-Class Package Service Contract 11 (MC2012-40 and CP2012-48) (Order No. 1446), added August 23, 2012.

11. First-Class Package Service Contract 12 (MC2012-41 and CP2012-49) (Order No. 1447), added August 23, 2012.

12. Valassis NSA (MC2012-14 and R2012-8) (Order No. 1448), added August 23, 2012.

13. First-Class Package Service Contract 13 (MC2012-42 and CP2012-50) (Order No. 1452), added August 29, 2012.

14. First-Class Package Service Contract 14 (MC2012-43 and CP2012-51) (Order No. 1453), added August 29, 2012.

15. First-Class Package Service Contract 15 (MC2012-45 and CP2012-53) (Order No. 1457), added August 31, 2012.

16. Every Door Direct Mail-Retail to the Product List (MC2012-31) (Order No. 1460), added September 7, 2012.

17. Transfer of Outbound Single-Piece First-Class Mail International Packages and Rolls (MC2012-44) (Order No. 1461), transferred September 10, 2012.

18. Express Mail, Priority Mail & First-Class Package Service Contract 1 (MC2012-46 and CP2012-55) (Order No. 1474), added September 21, 2012.

19. Priority Mail Contract 42 (MC2012-47 and CP2012-57) (Order No. 1475), added September 24, 2012.

20. Priority Mail Contract 43 (MC2012-48 and CP2012-58) (Order No. 1476), added September 24, 2012.

21. Priority Mail Contract 44 (MC2013-2 and CP2013-2) (Order No. 1508), added October 19, 2012.

22. Priority Mail Contract 45 (MC2013-4 and CP2013-4) (Order No. 1518) added October 26, 2012.

23. Priority Mail & First-Class Package Service Contract 1 (MC2013-5 and CP2013-5) (Order No. 1519) added October 26, 2012.

24. Priority Mail Contract 46 (MC2013-6 and CP2013-6) (Order No. 1524) added November 2, 2012.

25. Priority Mail Contract 47 (MC2013-7 and CP2013-7) (Order No. 1525) added November 2, 2012.

26. First-Class Package Service Contract 21 (MC2013-8 and CP2013-8) (Order No. 1526) added November 2, 2012.

27. First-Class Package Service Contract 22 (MC2013-9 and CP2013-9) (Order No. 1527) added November 2, 2012.

28. First-Class Package Service Contract 23 (MC2013-10 and CP2013-10) (Order No. 1528) added November 2, 2012.

29. First-Class Package Service Contract 24 (MC2013-11 and CP2013-11) (Order No. 1529) added November 2, 2012.

30. First-Class Package Service Contract 25 (MC2013-12 and CP2013-12) (Order No. 1537) added November 8, 2012.

31. Parcel Select Contract 6 (MC2013-13 and CP2013-13) (Order No. 1538) added November 8, 2012.

32. First-Class Package Service Contract 26 (MC2013-15 and CP2013-14) (Order No. 1547) added November 19, 2012.

33. Priority Mail Contract 48 (MC2013-16 and CP2013-15) (Order No. 1548) added November 19, 2012.

34. First-Class Package Service Contract 27 (MC2013-17 and CP2013-16) (Order No. 1558) added November 30, 2012.

35. First-Class Package Service Contract 28 (MC2013-18 and CP2013-17) (Order No. 1559) added November 30, 2012.

36. First-Class Package Service Contract 29 (MC2013-19 and CP2013-18) (Order No. 1560) added November 30, 2012.

37. First-Class Package Service Contract 30 (MC2013-20 and CP2013-19) (Order No. 1561) added November 30, 2012.

38. First-Class Package Service Contract 31 (MC2013-21 and CP2013-29) (Order No. 1603) added December 28, 2012.

39. First-Class Package Service Contract 32 (MC2013-22 and CP2013-30) (Order No. 1604) added December 28, 2012.

40. First-Class Package Service Contract 34 (MC2013-24 and CP2013-32) (Order No. 1605) added December 28, 2012.

41. First-Class Package Service Contract 33 (MC2013-23 and CP2013-31) (Order No. 1606) added December 28, 2012.

42. Priority Mail Contract 49 (MC2013-25 and CP2013-33) (Order No. 1607) added January 2, 2013.

43. Priority Mail Contract 50 (MC2013-26 and CP2013-34) (Order No. 1608) added January 2, 2013.

44. Global Expedited Package Services Contracts Non-Published Rates 4 (MC2013-27 and CP2013-35) (Order No. 1625) added January 16, 2013.

45. Priority Mail Contract 51 (MC2013-31 and CP2013-40) (Order No. 1632) added January 24, 2013.

46. Express Mail Contract 13 (MC2013-32 and CP2013-41) (Order No. 1640) added January 25, 2013.

47. Priority Mail Contract 52 (MC2013-35 and CP2013-46) (Order No. 1646) added February 4, 2013.

48. Express Mail & Priority Mail Contract 13 (MC2013-34 and CP2013-45) (Order No. 1647) added February 4, 2013.

49. Priority Mail Contract 53 (MC2013-36 and CP2013-47) (Order No. 1650) added February 8, 2013.

50. Express Mail & Priority Mail Contract 12 (MC2013-33 and CP2013-44) (Order No. 1652) added February 11, 2013.

51. Priority Mail Contract 54 (MC2013-37 and CP2013-48) (Order No. 1653) added February 11, 2013.

52. Removal of Confirm Service from the Market-Dominant Product List (MC2013-38) (Order No. 1664) removed February 19, 2013.

53. Parcel Return Service Contract 3 (MC2013-39 and CP2013-51) (Order No. 1672) added March 1, 2013.

54. Express Mail Contract 14 (MC2013-41 and CP2013-53) (Order No. 1673) added March 7, 2013.

55. Priority Mail Contract 55 (MC2013-40 and CP2013-52) (Order No. 1675) added March 11, 2013.

56. Priority Mail Contract 56 (MC2013-42 and CP2013-55) (Order No. 1695) added April 9, 2013.

57. Priority Mail Contract 57 (MC2013-43 and CP2013-56) (Order No. 1696) added April 9, 2013.

58. Parcel Return Service Contract 4 (MC2013-46 and CP2013-60) (Order No. 1711) added May 8, 2013.

59. Priority Mail Contract 58 (MC2013-47 and CP2013-61) (Order No. 1712) added May 9, 2013.

60. Express Mail Contract 15 (MC2013-50 and CP2013-63) (Order No. 1729) added May 23, 2013.

61. Global Reseller Expedited Package Contracts 2 (MC2013-51 and CP2013-64) (Order No. 1746) added June 13, 2013.

62. Priority Mail Contract 59 (MC2013-52 and CP2013-66) (Order No. 1759) added June 24, 2013.

63. Priority Mail Contract 60 (MC2013-54 and CP2013-70) (Order No. 1773) added July 8, 2013.

64. Priority Mail International Regional Rate Boxes Non-Published Rates Contracts (MC2013-53 and CP2013-69) (Order No. 1783) added July 19, 2013.

65. Priority Mail Contract 62 (MC2013-56 and CP2013-74) (Order No. 1784) added July 23, 2013.

66. Priority Mail Contract 61 (MC2013-55 and CP2013-73) (Order No. 1790) added July 24, 2013.

67. Market Test of Experimental Product-International Merchandise Return Service Non-Published Rates (MT2013-2) (Order No. 1806) added August 12, 2013.

68. Inbound International Expedited Services 2 (MC2009-10) (CP2013-77) (Order No. 1822) added August 30, 2013.

69. Priority Mail Express & Priority Mail Contract 14 (MC2013-58 and CP2013-79) (Order No. 1831) added September 11, 2013.

70. Parcel Select Contract 7 (MC2013-59 and CP2013-80) (Order No. 1832) added September 11, 2013.

71. Priority Mail Contract 63 (MC2013-61 and CP2013-81) (Order No. 1846), added September 30, 2013.

72. Priority Mail Contract 64 (MC2013-62 and CP2013-82) (Order No. 1848), added October 17, 2013.

73. Priority Mail Contract 65 (MC2013-63 and CP2013-83) (Order No. 1854), added October 23, 2013.

74. Parcel Select and Parcel Return Service Contract 5 (MC2014-1 and CP2014-1) (Order No. 1863), added October 29, 2013.

75. Parcel Return Service Contract 5 (MC2014-4 and CP2014-4) (Order No. 1867), added November 1, 2013.

76. Priority Mail Contract 66 (MC2014-2 and CP2014-2) (Order No. 1869), added November 5, 2013.

77. Global Reseller Expedited Package Contracts 3 (MC2013-64 and CP2013-84) (Order No. 1870), added November 7, 2013.

78. Priority Mail Express & Priority Mail Contract 15 (MC2014-3 and CP2014-3) (Order No. 1872), added November 7, 2013.

79. Priority Mail Contract 68 (MC2014-6 and CP2014-7) (Order No. 1893), added December 2, 2013.

80. Priority Mail Contract 69 (MC2014-7 and CP2014-8) (Order No. 1895), added December 2, 2013.

81. Priority Mail Contract 67 (MC2014-5 and CP2014-6) (Order No. 1896), added December 3, 2013.

82. Priority Mail Contract 70 (MC2014-8 and CP2014-9) (Order No. 1897), added December 3, 2013.

83. Priority Mail Contract 71 (MC2014-9 and CP2014-10) (Order No. 1914), added December 19, 2013.

84. Priority Mail Contract 72 (MC2014-10 and CP2014-11) (Order No. 1915), added December 19, 2013.

85. Notice of Market Dominant Price Adjustment for Alternate Postage Payment Method (R2014-1) (Order No. 1917), changed December 20, 2013.

86. Priority Mail Express Contract 16 (MC2014-12 and CP2014-16) (Order No. 1941), added January 2, 2014.

87. Priority Mail Express Contract 17 (MC2014-13 and CP2014-17) (Order No. 1947), added January 6, 2014.

88. Priority Mail Contract 73 (MC2014-11 and CP2014-15) (Order No. 1949), added January 9, 2014.

89. Priority Mail Contract 74 (MC2014-15 and CP2014-24) (Order No. 1960), added January 13, 2014.

90. First-Class Package Service Contract 35 (MC2014-14 and CP2014-23) (Order No. 1975), added January 24, 2014.

91. Priority Mail Contract 76 (MC2014-17 and CP2014-26) (Order No. 1978), added January 27, 2014.

92. Priority Mail Contract 75 (MC2014-16 and CP2014-25) (Order No. 1979), added January 28, 2014.

93. Priority Mail Contract 77 (MC2014-18 and CP2014-31) (Order No. 2010), added March 7, 2014.

94. Priority Mail Contract 78 (MC2014-19 and CP2014-32) (Order No. 2015), added March 11, 2014.

95. Priority Mail Contract 79 (MC2014-20 and CP2014-33) (Order No. 2016), added March 11, 2014.

96. Priority Mail Express, Priority Mail & First-Class Package Service Contract 2 (MC2014-22 and CP2014-37) (Order No. 2034), added March 27, 2014.

97. Priority Mail Contract 80 (MC2014-23 and CP2014-38) (Order No. 2056), added April 16, 2014.

98. Priority Mail Contract 81 (MC2014-24 and CP2014-47) (Order No. 2071), added April 30, 2014.

99. Priority Mail Express Contract 18 (MC2014-25 and CP2014-48) (Order No. 2072), added May 1, 2014.

100. Market Dominant Product Prices PHI Acquisitions, Inc. (MC2014-21 and R2014-6) (Order No. 2097), added June 19, 2014.

101. Priority Mail Express, Priority Mail & First-Class Package Service Contract 3 (MC2014-27 and CP2014-53) (Order No. 2106), added June 27, 2014.

102. Priority Mail Contract 82 (MC2014-29 and CP2014-54) (Order No. 2119), added July 11, 2014.

103. Priority Mail Contract 83 (MC2014-31 and CP2014-56) (Order No. 2126), added July 16, 2014.

104. First-Class Package Service Contract 36 (MC2014-32 and CP2014-57) (Order No. 2128), added July 21, 2014.

105. Priority Mail Contract 86 (MC2014-35 and CP2014-61) (Order No. 2138), added August 1, 2014.

106. Priority Mail Contract 88 (MC2014-37 and CP2014-63) (Order No. 2139), added August 1, 2014.

107. Priority Mail Contract 85 (MC2014-34 and CP2014-60) (Order No. 2141), added August 4, 2014.

108. Priority Mail Contract 87 (MC2014-36 and CP2014-62) (Order No. 2142), added August 4, 2014.

109. Priority Mail Contract 84 (MC2014-33 and CP2014-59) (Order No. 2143), added August 4, 2014.

110. Addition of Gift Cards Price Category to Greeting Cards and Stationery Product (MC2014-26) (Order No. 2145), added August 8, 2014.

111. Transferring Inbound Surface Parcel Post (At UPU Rates) (MC2014-28) (Order No. 2160), transferred August 19, 2014.

112. Global Reseller Expedited Package Contracts 4 (MC2014-38 and CP2014-67) (Order No. 2170), added August 25, 2014.

113. Priority Mail Contract 90 (MC2014-40 and CP2014-73) (Order No. 2172), added August 27, 2014.

Updated product list. The referenced changes to the product lists are incorporated into Appendix A to Subpart A of 39 CFR Part 3020—Mail Classification Schedule.

List of Subjects in 39 CFR Part 3020

Administrative practice and procedure, Postal Service.

For the reasons discussed in the preamble, the Postal Regulatory Commission amends chapter III of title 39 of the Code of Federal Regulations as follows:

PART 3020—PRODUCT LISTS

1. The authority citation for part 3020 continues to read as follows:

Authority: 39 U.S.C. 503; 3622; 3631; 3642; 3682.

2. Revise Appendix A to Subpart A of Part 3020—Mail Classification Schedule to read as follows:

Appendix A to Subpart A of Part 3020—Mail Classification Schedule

(An asterisk (*) indicates an organizational group, not a Postal Service product.)

Part A—Market Dominant Products

1000 Market Dominant Product List

First-Class Mail*

Single-Piece Letters/Postcards

Presorted Letters/Postcards

Flats

Parcels

Outbound Single-Piece First-Class Mail International

Inbound Letter Post

Standard Mail (Commercial and Nonprofit)*

High Density and Saturation Letters

High Density and Saturation Flats/Parcels

Carrier Route

Letters

Flats

Parcels

Every Door Direct Mail—Retail

Periodicals*

In-County Periodicals

Outside County Periodicals

Package Services*

Alaska Bypass Service

Bound Printed Matter Flats

Bound Printed Matter Parcels

Media Mail/Library Mail

Special Services*

Ancillary Services

International Ancillary Services

Address Management Services

Caller Service

Credit Card Authentication

International Reply Coupon Service

International Business Reply Mail Service

Money Orders

Post Office Box Service

Customized Postage

Stamp Fulfillment Services

Negotiated Service Agreements*

Domestic*

Discover Financial Services 1

Valassis Direct Mail, Inc. Negotiated Service Agreement

PHI Acquisitions, Inc. Negotiated Service Agreement

International*

Inbound Market Dominant Multi-Service Agreements with Foreign Postal Operators

Inbound Market Dominant Exprés Service Agreement 1

Nonpostal Services*

Alliances with the Private Sector to Defray Cost of Key Postal Functions

Philatelic Sales

Market Tests*

Part B—Competitive Products

2000 Competitive Product List

Domestic Products*

Priority Mail Express

Priority Mail

Parcel Select

Parcel Return Service

First-Class Package Service

Market Tests*

Standard Post

International Products*

Outbound International Expedited Services

Inbound Parcel Post (at UPU rates)

Outbound Priority Mail International

International Priority Airmail (IPA)

International Surface Air List (ISAL)

International Direct Sacks—M-Bags

Outbound Single-Piece First-Class Package International Service

Negotiated Service Agreements*

Domestic*

Priority Mail Express Contract 8

Priority Mail Express Contract 10

Priority Mail Express Contract 11

Priority Mail Express Contract 12

Priority Mail Express Contract 13

Priority Mail Express Contract 14

Priority Mail Express Contract 15

Priority Mail Express Contract 16

Priority Mail Express Contract 17

Priority Mail Express Contract 18

Parcel Return Service Contract 3

Parcel Return Service Contract 4

Parcel Return Service Contract 5

Priority Mail Contract 24

Priority Mail Contract 29

Priority Mail Contract 31

Priority Mail Contract 32

Priority Mail Contract 33

Priority Mail Contract 34

Priority Mail Contract 35

Priority Mail Contract 36

Priority Mail Contract 38

Priority Mail Contract 39

Priority Mail Contract 40

Priority Mail Contract 41

Priority Mail Contract 42

Priority Mail Contract 43

Priority Mail Contract 44

Priority Mail Contract 45

Priority Mail Contract 46

Priority Mail Contract 47

Priority Mail Contract 48

Priority Mail Contract 49

Priority Mail Contract 50

Priority Mail Contract 51

Priority Mail Contract 52

Priority Mail Contract 53

Priority Mail Contract 54

Priority Mail Contract 55

Priority Mail Contract 56

Priority Mail Contract 57

Priority Mail Contract 58

Priority Mail Contract 59

Priority Mail Contract 60

Priority Mail Contract 61

Priority Mail Contract 62

Priority Mail Contract 63

Priority Mail Contract 64

Priority Mail Contract 65

Priority Mail Contract 66

Priority Mail Contract 67

Priority Mail Contract 68

Priority Mail Contract 69

Priority Mail Contract 70

Priority Mail Contract 71

Priority Mail Contract 72

Priority Mail Contract 73

Priority Mail Contract 74

Priority Mail Contract 75

Priority Mail Contract 76

Priority Mail Contract 77

Priority Mail Contract 78

Priority Mail Contract 79

Priority Mail Contract 80

Priority Mail Contract 81

Priority Mail Contract 82

Priority Mail Contract 83

Priority Mail Contract 84

Priority Mail Contract 85

Priority Mail Contract 86

Priority Mail Contract 87

Priority Mail Contract 88

Priority Mail Contract 90

Priority Mail Express & Priority Mail Contract 9

Priority Mail Express & Priority Mail Contract 10

Priority Mail Express & Priority Mail Contract 11

Priority Mail Express & Priority Mail Contract 12

Priority Mail Express & Priority Mail Contract 13

Priority Mail Express & Priority Mail Contract 14

Priority Mail Express & Priority Mail Contract 15

Parcel Select & Parcel Return Service Contract 3

Parcel Select & Parcel Return Service Contract 5

Parcel Select Contract 1

Parcel Select Contract 2

Parcel Select Contract 3

Parcel Select Contract 4

Parcel Select Contract 5

Parcel Select Contract 6

Parcel Select Contract 7

Priority Mail—Non-Published Rates

Priority Mail—Non-Published Rates 1

First-Class Package Service Contract 1

First-Class Package Service Contract 3

First-Class Package Service Contract 4

First-Class Package Service Contract 5

First-Class Package Service Contract 6

First-Class Package Service Contract 7

First-Class Package Service Contract 8

First-Class Package Service Contract 9

First-Class Package Service Contract 10

First-Class Package Service Contract 11

First-Class Package Service Contract 12

First-Class Package Service Contract 13

First-Class Package Service Contract 14

First-Class Package Service Contract 15

First-Class Package Service Contract 16

First-Class Package Service Contract 17

First-Class Package Service Contract 18

First-Class Package Service Contract 19

First-Class Package Service Contract 20

First-Class Package Service Contract 21

First-Class Package Service Contract 22

First-Class Package Service Contract 23

First-Class Package Service Contract 24

First-Class Package Service Contract 25

First-Class Package Service Contract 26

First-Class Package Service Contract 27

First-Class Package Service Contract 28

First-Class Package Service Contract 29

First-Class Package Service Contract 30

First-Class Package Service Contract 31

First-Class Package Service Contract 32

First-Class Package Service Contract 33

First-Class Package Service Contract 34

First-Class Package Service Contract 35

First-Class Package Service Contract 36

Priority Mail Express, Priority Mail & First-Class Package Service Contract 1

Priority Mail Express, Priority Mail & First-Class Package Service Contract 2

Priority Mail Express, Priority Mail & First-Class Package Service Contract 3

Priority Mail & First-Class Package Service Contract 1

Outbound International*

Global Expedited Package Services (GEPS) Contracts GEPS 3

Global Direct Contracts

Global Direct Contracts 1

Global Bulk Economy (GBE) Contracts

Global Plus Contracts

Global Plus 1C

Global Plus 2C

Global Reseller Expedited Package Contracts

Global Reseller Expedited Package Services 1

Global Reseller Expedited Package Services 2

Global Reseller Expedited Package Services 3

Global Reseller Expedited Package Services 4

Global Expedited Package Services (GEPS)—Non-Published Rates

Global Expedited Package Services (GEPS)—Non-Published Rates 2

Global Expedited Package Services (GEPS)—Non-Published Rates 3

Global Expedited Package Services (GEPS)—Non-Published Rates 4

Priority Mail International Regional Rate Boxes—Non-Published Rates

Inbound International*

International Business Reply Service (IBRS) Competitive Contracts

International Business Reply Service Competitive Contract 1

International Business Reply Service Competitive Contract 3

Inbound Direct Entry Contracts with Customers

Inbound Direct Entry Contracts with Foreign Postal Administrations

Inbound Direct Entry Contracts with Foreign Postal Administrations

Inbound Direct Entry Contracts with Foreign Postal Administrations 1

Inbound EMS

Inbound EMS 2

Inbound Air Parcel Post (at non-UPU rates)

Royal Mail Group Inbound Air Parcel Post Agreement

Inbound Competitive Multi-Service Agreements with Foreign Postal Operators 1

Special Services*

Address Enhancement Services

Greeting Cards, Gift Cards, and Stationery

International Ancillary Services

International Money Transfer Service—Outbound

International Money Transfer Service—Inbound

Premium Forwarding Service

Shipping and Mailing Supplies

Post Office Box Service

Competitive Ancillary Services

Nonpostal Services*

Advertising

Licensing of Intellectual Property other than Officially Licensed Retail

Products (OLRP)

Mail Service Promotion

Officially Licensed Retail Products (OLRP)

Passport Photo Service

Photocopying Service

Rental, Leasing, Licensing or other Non-Sale Disposition of Tangible Property

Training Facilities and Related Services

USPS Electronic Postmark (EPM) Program

Market Tests*

Metro Post

International Merchandise Return Service (IMRS)—Non-Published Rates

Shoshana M. Grove,
Secretary.

[FR Doc. 2014-21228 Filed 9-5-14; 8:45 am]

BILLING CODE 7710-FW-P